DEPARTMENT OF THE INTERIOR

National Park Service

[NPS-WASO-NAGPRA-NPS0024672; PCU00RP14.R50000-PPWOCRADN0]

Notice of Intent To Repatriate Cultural Items: U.S. Department of the Interior, Bureau of Indian Affairs, Washington, DC

AGENCY: National Park Service, Interior.

ACTION: Notice.

SUMMARY: The U.S. Department of the Interior, Bureau of Indian Affairs, in consultation with the appropriate Indian Tribes or Native Hawaiian organizations, has determined that the cultural items listed in this notice meet the definition of unassociated funerary objects. Lineal descendants or representatives of any Indian Tribe or Native Hawaiian organization not identified in this notice that wish to claim these cultural items should submit a written request to the Bureau of Indian Affairs. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Bureau of Indian Affairs at the address in this notice by March 1, 2018.

ADDRESSES: Anna Pardo, Museum Program Manager/NAGPRA Coordinator, Bureau of Indian Affairs, 12220 Sunrise Valley Drive, Room 6084, Reston, VA 20191, telephone (703) 390-6343, email Anna.Pardo@bia.gov.

SUPPLEMENTARY INFORMATION: Notice is here given in accordance with the Native American Graves Protection and Repatriation Act (NAGPRA), 25 U.S.C. 3005, of the intent to repatriate cultural items under the control of the U.S. Department of the Interior, Bureau of Indian Affairs, Washington, DC, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1950, 12 cultural items were removed from burial contexts in an unnamed ruin in Mancos Canyon, Montezuma County, CO, located on Indian trust lands. Original field notes taken by Cliff Chappell state: “Large Ruin in Mancos Canyon, 12 ½ miles from Gallup rd. just below picture rock. Ward Emerson & Myself. 4/28/50. Dug by Cliff Chappell. [Artifacts 525A through 525G] found loose in the 1st ruin 4 ½ miles from Gallup rd. at Leimbach picnic site S. of rd.” In 1983, the Anasazi Historical Society (AHS) purchased the “Chappell Collection” from the Chappell family and the collection was placed on loan by the AHS at the Bureau of Land Management—Anasazi Heritage Center. In 2016, these 12 items were identified as being removed from burial contexts on Indian lands. The Bureau of Indian Affairs asserted control of the items and notified potentially affiliated Tribes. The 12 unassociated funerary objects are 1 ceramic bowl, 2 ceramic pitchers, 1 stone spindle whorl, 2 chert side-notched projectile points, 3 stone pendant blanks, 1 hammerstone, 1 tether stone, and 1 piece of unworked petrified wood.

Archeological findings indicate that the Hopi are the direct descendants of the Prehistoric Ancestral Puebloan inhabitants of the Four Corners region. Published accounts of Hopi oral traditions say that ancestors of some Hopi clans migrated from north and east of the Hopi Mesas, including the general vicinity of Mancos Canyon and the Mesa Verde region, either directly or indirectly by way of the Eastern Pueblos. Migrations of people from the Eastern Pueblos to Hopi are substantiated in the archeological record and in ethnohistorical accounts. The puebloan ruins of Montezuma County show the greatest affinity to the Mesa Verde branch. (Cultural Affiliation Study for Canyons of the Ancients National Monument, Southwest Colorado, Gilpin, et al. 2002:121). The Hopi Cultural Preservation Office of the Hopi Tribe asserts cultural affiliation to these objects.

Determinations Made by the Bureau of Indian Affairs

Officials of the Bureau of Indian Affairs have determined that:

• Pursuant to 25 U.S.C. 3001(3)(B), the 12 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Hopi Tribe of Arizona.

Additional Requestors and Disposition

Lineal descendants or representatives of any Indian Tribe or Native Hawaiian organization not identified in this notice that wish to claim these cultural items should submit a written request with information in support of the claim to Anna Pardo, Museum Program Manager/NAGPRA Coordinator, U.S. Department of the Interior, Bureau of Indian Affairs, 12220 Sunrise Valley Drive, Room 6084, Reston, VA 20191, telephone (703) 390-6343, email Anna.Pardo@bia.gov, by March 1, 2018. After that date, if no additional claimants have come forward, transfer of control of the unassociated funerary objects to the Hopi Tribe of Arizona may proceed.

The Bureau of Indian Affairs is responsible for notifying the Hopi Tribe of Arizona that this notice has been published.

Dated: November 15, 2017.
Sarah Glass,
Acting Manager, National NAGPRA Program.

[FR Doc. 2018-01727 Filed 1-29-18; 8:45 am]

BILLING CODE 4312-52-P